DEPARTMENT OF COMMERCE

National Oceanic and Atmospheric Administration

Agency Information Collection Activities; Submission to the Office of Management and Budget (OMB) for Review and Approval; Comment Request; Collaborative Hybrid-Generic Human Dimension of Use and Non-Use in Marine and Coastal Environments

AGENCY: National Oceanic & Atmospheric Administration (NOAA), Commerce.

ACTION: Notice of information collection, request for comment.

SUMMARY: The Department of Commerce, in accordance with the Paperwork Reduction Act of 1995 (PRA), invites the general public and other Federal agencies to comment on proposed, and continuing information collections, which helps us assess the impact of our information collection requirements and minimize the public's reporting burden. The purpose of this notice is to allow for 60 days of public comment preceding submission of the information collection request to OMB for review and approval.

DATES: To ensure consideration, comments regarding this proposed information collection must be received on or before January 8, 2024.

ADDRESSES: Interested persons are invited to submit written comments to Adrienne Thomas, NOAA PRA Officer, at NOAA.PRA@noaa.gov. Do not submit Confidential Business Information or otherwise sensitive or protected information.

FOR FURTHER INFORMATION CONTACT: Requests for additional information or specific questions related to collection activities should be directed to Dr. Danielle Schwarzmann, ONMS Chief Economist, 1315 East West Hwy, SSMC4, Silver Spring, MD 20910, 240-533-0706, danielle.schwarzmann@noaa.gov.

SUPPLEMENTARY INFORMATION:

I. Abstract

This is a request for a new information collection.

NOAA is developing an information collection to characterize, assess and research social and economic value and importance of natural and cultural resources in the Ocean and Great Lakes. This coordinated project will allow for consistent metrics of human use to be collected across the environments managed by NOAA. In order to fulfill the mandates of the following legislation, timely human use and socioeconomic data is required: the National Marine Sanctuaries Act; Coastal Zone Management Act; Digital Coast Act; Coral Reef Conservation Act; National Historic Preservation Act; and the Magnuson Stevens-Fishery Conservation and Management Act.

The purpose of this information collection is to obtain human dimensions information from users of marine areas, including individuals and households, businesses, local, State and Federal Governments, tribal and territorial governments, Tribal and Indigenous peoples, nonprofits and academic institutions.

Focusing on the Ocean and Great Lakes, data collected will quantify over time and space visitation rates (frequency, duration, purpose, location), uses (commercial, recreational, cultural, science and education), how resources are used to support cultural heritage practices within the marine landscapes and ecosystems, and expenditures of users. Data will also be used to understand attitudes and perceptions of users and non-users of marine and coastal areas, and collect socioeconomic information of both users and non-users of marine and coastal areas.

The intended use of the information collected through this instrument is to fulfill the aforementioned mandates. Selected acts are highlighted here. Regarding the National Marine Sanctuary Act (NMSA), NOAA shall consider “the present and potential uses of the area that depend on maintenance of the area's resources, including commercial and recreational fishing, subsistence uses, other commercial and recreational activities, and research and education.” 16 U.S.C. 1433(b)(1). NOAA must also determine whether present and potential activities may adversely affect the area's qualities that contribute to its significance, the public benefits to be derived from sanctuary status, negative impacts produced by management restrictions on income-generating activities, socioeconomic effects of sanctuary designation, the area's scientific value, and the value for monitoring the sanctuary's resources. In developing a sanctuary's management plan, the NMSA requires NOAA to include, among other things, resource studies and appropriate strategies for managing sanctuary resources, including innovative management strategies, research, monitoring and assessment, and surveillance activities. 16 U.S.C. 1434(a)(2)(C).

The Coastal Zone Management Act (CZMA) establishes the national policy to “preserve, protect, develop, and where possible, to restore or enhance, the resources of the Nation's coastal zone” and to “encourage and assist the states to exercise effectively their responsibilities in the coastal zone through the development and implementation of management programs to achieve wise use of the land and water resources of the coastal zone, giving full consideration to ecological, cultural, historic, and esthetic values as well as the needs for compatible economic development.” 16 U.S.C. 1452(1-2).

The Magnuson Stevens-Fishery Conservation and Management Act (MSA) governs marine fisheries management in U.S. Federal waters. Its objectives include increasing long-term economic and social benefits and ensuring a safe and sustainable supply of seafood. It states that, “Conservation and management measures shall . . . take into account the importance of fishery resources to fishing communities by utilizing economic and social data in order to (A) provide for the sustained participation of such communities, and (B) to the extent practicable, minimize adverse economic impacts on such communities.” (16 U.S.C. 1851 (a) (8)).

The Digital Coast Act supports the coordination of activities across multiple legislation relevant to NOAA; “The Secretary shall coordinate the activities carried out under the program to optimize data collection, sharing and integration, and to minimize duplication by . . . consulting with other Federal agencies, including interagency committees, on relevant Federal activities, including activities carried out under the Ocean and Coastal Mapping Integration Act (33 U.S.C. 3501 et seq.), the Coastal Zone Management Act of 1972 (16 U.S.C. 1451 et seq.), the Integrated Coastal and Ocean Observation System Act of 2009 (33 U.S.C. 3601 et seq.), and the Hydrographic Services Improvement Act of 1998 (33 U.S.C. 892 et seq.).” 16 U.S.C.1467(c)(2). The Digital Coast Act, section 2, Findings, states that “highly accurate, high-resolution remote sensing and other geospatial data play an increasingly important role in decision making and management of the coastal zone and economy . . .” Public Law 116-223, sec. 2. The Act specifically calls for filling data needs and gaps for coastal management. Specifically, to “continue improvement in existing efforts to coordinate the acquisition and integration of key data sets needed for coastal management and other purposes” including “socioeconomic and human use data.” 16 U.S.C.1467(d)(3)(C).

The surveys will also characterize and assess reasons for non-use of the marine and coastal environment and identify barriers to access and opportunity which addresses the Executive Order on Advancing Racial Equity and Support for Underserved Communities Through the Federal Government.

Study data will be made available to the public (with personally identifiable information removed), and reports and papers will be published with study findings. Pursuant to conversations with NOAA, Department of Commerce, and the Office of Management and Budget, this request is being submitted as a Collaborative Hybrid-Generic collection.

II. Method of Collection

Information will be collected using the most efficient and effective methodology that is feasible in the individual marine protected area, region, or jurisdiction. It is expected that data collection methods will vary by site and may include in-person, phone, electronic (internet), and mail surveys.

III. Data

OMB Control Number: 0648-XXXX.

Form Number(s): None.

Type of Review: Regular submission—New Collection.

Affected Public: Individuals or households; Business or other for-profit organizations; Not-for-profit institutions; State, Local, or Tribal government; Federal Government.

Estimated Number of Respondents: 30,383.

Estimated Time per Response: Response times will vary depending on the instrument and mode of collection. Response times vary from 10 minutes to 60 minutes.

Estimated Total Annual Burden Hours: 7,689 hours.

Estimated Total Annual Cost to Public: We do not anticipate any costs to the public.

Respondent's Obligation: Voluntary.

Legal Authority: National Marine Sanctuaries Act, Digital Coast Act, Coastal Zone Management Act, Coral Reef Conservation Act, Maritime Heritage Protection Act & Magnuson Stevens-Fishery Conservation and Management Act.

IV. Request for Comments

We are soliciting public comments to permit the Department/Bureau to: (a) Evaluate whether the proposed information collection is necessary for the proper functions of the Department, including whether the information will have practical utility; (b) Evaluate the accuracy of our estimate of the time and cost burden for this proposed collection, including the validity of the methodology and assumptions used; (c) Evaluate ways to enhance the quality, utility, and clarity of the information to be collected; and (d) Minimize the reporting burden on those who are to respond, including the use of automated collection techniques or other forms of information technology.

Comments that you submit in response to this notice are a matter of public record. We will include or summarize each comment in our request to OMB to approve this ICR. Before including your address, phone number, email address, or other personal identifying information in your comment, you should be aware that your entire comment—including your personal identifying information—may be made publicly available at any time. While you may ask us in your comment to withhold your personal identifying information from public review, we cannot guarantee that we will be able to do so.

Sheleen Dumas,
Department PRA Clearance Officer, Office of the Under Secretary for Economic Affairs, Commerce Department.

[FR Doc. 2023-24852 Filed 11-8-23; 8:45 am]

BILLING CODE 3510-JE-P